DEPARTMENT OF COMMERCE

National Oceanic and Atmospheric Administration

Public Comment for Enhancement of the Initial Integrated Ocean Observing System (IOOS)

AGENCY: National Oceanic and Atmospheric Administration (NOAA), DOC.

ACTION: Notice of opportunity for written public comment.

SUMMARY: This notice announces the opportunity for the public to comment on the First Annual Integrated Ocean Observing System (IOOS) Development Plan, available on October 15, 2004 at www.ocean.us. Comments are due not later than close of business on Monday, November 1, 2004 and should be submitted via e-mail to k.stump@ocean.us or in writing to Ms. Kristine Stump; Ocean.US; 2300 Clarendon Boulevard, Suite 1350; Arlington, VA 22201.

FOR FURTHER INFORMATION CONTACT: For further information regarding this Notice, please contact Ms. Kristine Stump, Ocean.US Telephone: (703) 588-0855. E-mail: k.stump@ocean.us.

SUPPLEMENTARY INFORMATION: Ocean.US is the national office for the integrated and sustained ocean observing system. Ocean.US has conducted several workshops and has completed a draft of the preliminary First Annual IOOS Development Plan, which, along with reports of the workshops, can be reviewed at www.ocean.us. IOOS will be a sustained network of sensors on buoys, ships, satellites, underwater vehicles, and other platforms that routinely supply the data and information needed for rapid detection and timely predictions of changes in our nation's coastal waters and on the high seas. An initial IOOS consisting of existing systems has been identified, and needs for enhancements have been submitted by stakeholders. The First Annual IOOS Implementation Conference, convened August 31-September 2, 2004, allowed stakeholders to review and prioritize IOOS enhancements. Results of the conference may be obtained by contacting Ms. Kristine Stump (k.stump@ocean.us).

Dated: October 8, 2004.
Richard W. Spinrad,
Assistant Administrator for Ocean Services and Coastal Zone Management, National Oceanic and Atmospheric Administration.

[FR Doc. 04-23163 Filed 10-14-04; 8:45 am]

BILLING CODE 3510-JE-M